DEPARTMENT OF THE TREASURY

Internal Revenue Service

26 CFR Part 1

[REG-142800-09]

RIN 1545-BI96

Guidance Regarding Deferred Discharge of Indebtedness Income of Corporations and Deferred Original Issue Discount Deductions; Correction

AGENCY: Internal Revenue Service (IRS), Treasury.

ACTION: Correction to notice of proposed rulemaking by cross-reference to temporary regulations.

SUMMARY: This document contains a correction to a notice of proposed rulemaking by cross-reference to temporary regulations (REG-142800-09) that was published in the Federal Register on Friday, August 13, 2010 (75 FR 49428) primarily affecting C corporations regarding the acceleration of deferred discharge of indebtedness (COD) income (deferred COD income) and deferred original issue discount (OID) deductions (deferred OID deductions) under section 108(i)(5)(D), and the calculation of earnings and profits as a result of an election under section 108(i). In addition, these regulations provide rules applicable to all taxpayers regarding deferred OID deductions under section 108(i) as a result of a reacquisition of an applicable debt instrument by an issuer or related party.

FOR FURTHER INFORMATION CONTACT: Concerning the proposed regulations, Robert M. Rhyne, (202) 622-7790 and Rubin B. Ranat, (202) 622-7530 (not toll-free numbers).

SUPPLEMENTARY INFORMATION:

Background

The correction notice that is the subject of this document is under section 108 of the Internal Revenue Code.

Need for Correction

As published, the notice of proposed rulemaking by cross-reference to temporary regulations (REG-142800-09) contains an error that may prove to be misleading and is in need of clarification.

Correction of Publication

Accordingly, the publication of the notice of proposed rulemaking by cross-reference to temporary regulations (REG-142800-09), which was the subject of FR Doc. 2010-20059, is corrected as follows:

On page 49429, column 2, in the authority citation for part 1, the language “Section 1.108(i)-0T also issued under 26 U.S.C. 108(i)(7). * * *” is removed and the language “Section 1.108(i)-0T also issued under 26 U.S.C. 108(i)(7) and 1502. * * *” is added in its place.

LaNita Van Dyke,
Chief, Publications and Regulations Branch, Legal Processing Division, Associate Chief Counsel, Procedure and Administration.

[FR Doc. 2010-22791 Filed 9-13-10; 8:45 am]

BILLING CODE 4830-01-P